DEPARTMENT OF JUSTICE

Antitrust Division

Notice Pursuant to The National Cooperative Research and Production Act of 1993 Cooperative Research Group on Particle Sensor Performance and Durability

Notice is hereby given that, on February 8, 2022, pursuant to Section 6(a) of the National Cooperative Research and Production Act of 1993, 15 U.S.C. 4301 et seq. (“the Act”), Southwest Research Institute—Cooperative Research Group on Particle Sensor Performance and Durability (“PSPD-II”) has filed written notifications simultaneously with the Attorney General and the Federal Trade Commission disclosing changes in its membership. The notifications were filed for the purpose of extending the Act's provisions limiting the recovery of antitrust plaintiffs to actual damages under specified circumstances. Specifically, Coorstek Sensors, LLC, Grand Junction, CO, has withdrawn as a party to this venture.

No other changes have been made in either the membership or planned activity of the group research project. Membership in this group research project remains open, and PSPD-II intends to file additional written notifications disclosing all changes in membership.

On March 15, 2017, PSPD-II filed its original notification pursuant to Section 6(a) of the Act. The Department of Justice published a notice in the Federal Register pursuant to Section 6(b) of the Act on April 14, 2017 (82 FR 18012).

The last notification was filed with the Department on March 12, 2021. A notice was published in the Federal Register pursuant to Section 6(b) of the Act on April 20, 2021 (86 FR 20522).

Suzanne Morris,
Chief, Premerger and Division Statistics, Antitrust Division.

[FR Doc. 2022-05188 Filed 3-10-22; 8:45 am]

BILLING CODE P